DEPARTMENT OF DEFENSE

Office of the Secretary

[Transmittal Nos. 11-36]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-36 with attached transmittal, policy justification, and Sensitivity of Technology.

Dated: November 17, 2011.
Aaron Siegel,
Alternate OSD Federal Register Liaison Officer, Department of Defense.

Transmittal No. 11-36

Notice of Proposed Issuance of Letter of Offer Pursuant to Section 36(b)(1) of the Arms Export Control Act, as amended

(i) Prospective Purchaser: Malaysia.

(ii) Total Estimated Value:

Major Defense Equipment* | $ 27 million
Other | $ 25 million
TOTAL | $ 52 million

(iii) Description and Quantity or Quantities of Articles or Services under Consideration for Purchase: 20 AIM-9X-2 SIDEWINDER Block II All-Up-Round Missiles, 8 CATM-9X-2 Captive Air Training Missiles, 4 CATM-9X-2 Block II Missile Guidance Units, 2 AIM-9X-2 Block II Tactical Guidance Units, 2 Dummy Air Training Missiles, containers, missile support and test equipment, provisioning, spare and repair parts, personnel training and training equipment, publications and technical data, U.S. Government and contractor technical assistance and other related logistics support.

(iv) Military Department: Navy (AAD).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: 8 November 2011.

* as defined in Section 47(6) of the Arms Export Control Act.

Policy Justification

Malaysia—AIM-9X-2 SIDEWINDER Missiles

The Government of Malaysia has requested a possible sale of 20 AIM-9X-2 SIDEWINDER Block II All-Up-Round Missiles, 8 CATM-9X-2 Captive Air Training Missiles, 4 CATM-9X-2 Block II Missile Guidance Units, 2 AIM-9X-2 Block II Tactical Guidance Units, 2 Dummy Air Training Missiles, containers, missile support and test equipment, provisioning, spare and repair parts, personnel training and training equipment, publications and technical data, U.S. Government and contractor technical assistance and other related logistics support. The estimated cost is $52 million.

This proposed sale will contribute to the foreign policy and national security of the United States by helping to improve the security of a friendly country that has been, and continues to be, an important force for political stability and economic progress in East Asia.

The Royal Malaysian Air Force is modernizing its fighter aircraft to better support its own air defense needs. The proposed sale of AIM-9X-2 missiles will enhance Malaysia's interoperability with the U.S. and among other South East Asian nations, making it a more valuable partner in an increasingly important area of the world.

The proposed sale of this weapon system will not alter the basic military balance in the region.

The prime contractor will be Raytheon Missile Systems Company in Tucson, Arizona. There are no known offset agreements in connection with this potential sale.

Implementation of this proposed sale will require travel of U.S. Government or contractor representatives to Malaysia on a temporary basis for program technical support and management oversight.

There will be no adverse impact on U.S. defense readiness as a result of this proposed sale.

Transmittal No. 11-36

Notice of Proposed Issuance of Letter of Offer Pursuant to Section 36(b)(1) of the Arms Export Control Act

Annex Item No. vii

(vii) Sensitivity of Technology:

1. The AIM-9X-2 SIDEWINDER Block II Missile represents a substantial increase in missile acquisition and kinematics performance over the AIM-9M and replaces the AIM-9X-1 Block I missile configuration. The missile includes a high off bore-sight seeker, enhanced countermeasure rejection capability, low drag/high angle of attack airframe and the ability to integrate the Helmet Mounted Cueing System. The software algorithms are the most sensitive portion of the AIM-9X-2 missile. The software continues to be modified via a pre-planned product improvement (P³I) program in order to improve its counter-countermeasures capabilities. No software source code or algorithms will be released.

2. The AIM-9X-2 will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters and similar critical information.

3. If a technologically advanced adversary were to obtain knowledge of the specific hardware and software elements, the information could be used to develop countermeasures that might reduce weapon system effectiveness or be used in the development of a system with similar or advanced capabilities.

[FR Doc. 2011-30092 Filed 11-21-11; 8:45 am]

BILLING CODE 5001-06-P